DEPARTMENT OF THE INTERIOR

National Park Service

Notice of Inventory Completion: Horner Collection, Oregon State University, Corvallis, OR

AGENCY: National Park Service, Interior.

ACTION: Notice.

Notice is here given in accordance with the Native American Graves Protection and Repatriation Act (NAGPRA), 25 U.S.C. 3003, Sec. 5, of the completion of an inventory of human remains in the possession of the Horner Collection, Oregon State University, Corvallis, OR. These human remains were removed from Crescent City, Del Norte County, CA.

This notice is published as part of the National Park Service’s administrative responsibilities under NAGPRA, 25 U.S.C. 3003, Sec. 5 (d)(3). The determinations within this notice are the sole responsibility of the museum, institution, or Federal agency that has control of these Native American human remains. The National Park Service is not responsible for the determinations within this notice.

A detailed assessment of the human remains was made by the Horner Collection professional staff in consultation with representatives of the Confederated Tribes of the Grand Ronde Community of Oregon; Confederated Tribes of the Siletz Reservation, Oregon; Elk Valley Rancheria, California; and Smith River Rancheria, California.

In 1892, human remains representing one individual were removed from an unknown site in Crescent City, CA. The human remains consist of a skull, on which is written “1892 Crescent City Cal Indian Skull.” The skull was included as part of the Dr. J.L. Hill collection, which was acquired from Dr. Hill’s daughter in 1925. It is unknown how Dr. Hill acquired these human remains and no provenance documentation is available other than the writing on the skull. No known individual was identified. No associated funerary objects are present.

Smith River Rancheria, California believes the skull to be that of a Tolowa person. The territory of the Tolowa people extended from Wilson Creek in southern Del Norte County, CA, northward along the coast to the Sixes River, OR, and eastward to the crest of the Coast Range. The Crescent City area was heavily occupied by Tolowa people well into historical times. The Smith River Rancheria, California includes approximately 900 enrolled Tolowa members.

Officials of the Horner Collection have determined that, pursuant to 25 U.S.C. 3001, Sec. 2 (9-10), the human remains listed above represent the physical remains of one individual of Native American ancestry. Officials of the Horner Collection also have determined that, pursuant to 25 U.S.C. 3001, Sec. 2(2), there is a relationship of shared group identity that can be reasonably traced between these Native American human remains and the Smith River Rancheria, California.

The Smith River Rancheria, California submitted a request for repatriation of these human remains. The Confederated Tribes of the Grand Ronde Community of Oregon; Confederated Tribes of the Siletz Reservation, Oregon; and Elk Valley Rancheria, California have indicated either verbally or in writing that they agree that the Smith River Rancheria, California is the appropriate claimant for these human remains.

Representatives of any other Indian tribe that believes itself to be culturally affiliated with these human remains should contact Orcilia Forbes, Vice President for University Advancement, Oregon State University, 2 Gill Coliseum, Corvallis, OR 97331, telephone (541) 737-9260, before April 7, 2003. Repatriation of these human remains to the Smith River Rancheria, California may proceed after that date if no additional claimants come forward.

The Horner Collection is responsible for notifying the Confederated Tribes of the Grand Ronde Community of Oregon; Confederated Tribes of Siletz Reservation, Oregon; Elk Valley Rancheria, California; and Smith River Rancheria, California that this notice has been published.

Dated: January 14, 2003.
John Robbins,
Assistant Director, Cultural Resources Stewardship and Partnerships.

[FR Doc. 03-5505 Filed 3-6-03; 8:45 am]

BILLING CODE 4310-70-S